DEPARTMENT OF ENERGY

Federal Energy Regulatory Commission

[Docket No. ER04-782-000-341-002, et al.]

Vermont Electric Cooperative, Inc., et al.; Electric Rate and Corporate Filings

May 6, 2004.

The following filings have been made with the Commission. The filings are listed in ascending order within each docket classification.

1. Vermont Electric Cooperative, Inc.

[Docket No. ER04- 341-002]

Take notice that on April 30, 2004, Vermont Electric Cooperative, Inc. (VEC) submitted a compliance filing pursuant to the Commission's order issued February 12, 2004 in Docket No. ER04-341-001, 106 FERC ¶ 61,131, (2004). VEC has requested an effective date of April 1, 2004.

Comment Date: May 21, 2004.

2. Midwest Independent Transmission System Operator, Inc.

[Docket No. ER04-782-000]

Take notice that on April 30, 2004, Midwest Independent Transmission System Operator, Inc. (Midwest ISO), pursuant to section 205 of the Federal Power Act and section 35.12 of the Commission's regulations, 18 CFR 35.12 (2003), submitted for filing an Interconnection and Operating Agreement among Blue Sky Wind Farm LLC, the Midwest ISO and American Transmission Company LLC. Midwest ISO has requested an effective date of April 20, 2004.

Midwest ISO states that a copy of this filing was served on all parties.

Comment Date: May 21, 2004.

3. Midwest Independent Transmission System Operator, Inc.

[Docket No. ER04-783-000]

Take notice that on April 30, 2004, Midwest Independent Transmission System Operator, Inc. (Midwest ISO) pursuant to section 205 of the Federal Power Act and section 35.12 of the Commission's regulations, 18 CFR 35.12 (2003), submitted for filing an Interconnection and Operating Agreement among Green Field Wind Farm LLC, the Midwest ISO and American Transmission Company LLC. Midwest ISO has requested an effective date of April 20, 2004.

Midwest ISO states that a copy of this filing was served on all parties.

Comment Date: May 21, 2004.

4. Tampa Electric Company

[Docket No. ER04-784-000]

Take notice that on April 30, 2004, Tampa Electric Company (Tampa Electric) tendered for filing revised rate schedule sheets containing updated rates for emergency interchange service and scheduled/short-term firm interchange service under its interchange contracts with each of 17 other utilities. Tampa Electric also tendered for filing revised sheets for inclusion in its open access transmission tariff (OATT) that contain an updated system average transmission loss percentage. Tampa Electric requests that the revised rate schedule and tariff sheets be made effective on May 1, 2004, and therefore requests waiver of the Commission's notice requirement.

Tampa Electric states that a copy of the filing has been served upon each of the parties to the affected interchange contracts and each customer under its OATT, as well as the Florida and Georgia Public Service Commissions.

Comment Date: May 21, 2004.

5. Commonwealth Edison Company

[Docket No. ER04-790-000]

Take notice that on April 30, 2004, Commonwealth Edison Company (ComEd) tendered for filing an executed Standard Large Generator Interconnection Agreement between ComEd and Power Partners Midwest, LLC, for Power Partners' Kinnikinnik Wind Farm generating facility. ComEd has requested an effective date of May 1, 2004.

Comment Date: May 21, 2004.

6. Tampa Electric Company

[Docket No. ER04-792-000]

Take notice that on April 30, 2004, Tampa Electric Company (Tampa Electric) tendered for filing open access transmission tariff sheets containing the Large Generator Interconnection Procedures and the Large Generator Interconnection Agreement that the Commission adopted in Order Nos. 2003 and 2003-A, Standardization of Generator Interconnection Agreements and Procedures. Tampa Electric proposes that the tariff sheets be made effective on April 30, 2004.

Tampa Electric states that copies of the filing have been served on the customers under Tampa Electric's open access transmission tariff and the Florida Public Service Commission.

Comment Date: May 21, 2004.

7. Fairless Energy, LLC

[Docket No. ER04-797-000]

Take notice that on April 30, 2004, Fairless Energy, LLC (Fairless) tendered for filing a revenue requirement and rate schedule pursuant to which Fairless will provide Reactive Supply and Voltage Control from Generation Sources Service pursuant to Schedule 2 of the PJM Interconnection, L.L.C. (PJM) Open Access Transmission Tariff. The rate schedule is Fairless Energy, LLC, Rate Schedule FERC No. 2. The Company requests an effective date of the later of July 1, 2004 or the day after the first block of facilities goes into commercial operation. Fairless also tendered for filing a First Revised Rate Schedule FERC No. 2 which adds charges for a second block of facilities and asks for an effective date of the day after the second block of facilities goes into commercial operation.

Fairless states that a copy of the filing was served on PJM, PECO Energy Company and the relevant state utility commissions.

Comment Date: May 21, 2004.

8. Wabash Valley Power Association, Inc.

[Docket No. ER04-802-000]

Take notice that on April 30, 2004, Wabash Valley Power Association, Inc. (Wabash Valley) tendered for filing its initial rate filing. Wabash Valley states that it will become a FERC-jurisdictional public utility on July 1, 2004, by virtue of its repurchase of its outstanding U.S. Department of Agriculture Rural Utilities Service debt. Therefore, in compliance with Section 205 of the Federal Power Act (16 U.S.C. ( 824d), Wabash Valley is filing with the Commission all of its rates, terms and conditions of service.

Wabash Valley state that copies of this filing were served upon Wabash Valley's Members, Duke Vermillion, LLC, PSI Energy, Inc., Cinergy Corp., Indiana Municipal Power Agency, Northern Indiana Public Service Company, Steel Dynamics, Inc. and the public utility commissions in Illinois, Indiana, Michigan and Ohio.

Comment Date: May 21, 2004.

9. PJM Interconnection, L.L.C.

[Docket No. ER04-807-000]

Take notice that on April 30, 2004, PJM Interconnection, L.L.C. (PJM) submitted for filing certain conforming changes to the PJM Open Access Transmission Tariff and PJM Operating Agreement related to the integration of Commonwealth Edison Company (including Commonwealth Edison Company of Indiana, Inc.) (ComEd) into PJM on May 1, 2004, as established by the Commission's April 27, 2004 order in Docket Nos. ER04-521-002, et al., 107 FERC ¶ 61,087. PJM has requested an effective date for these changes of May 1, 2004.

PJM states that copies of this filing have been served on all PJM members and utility regulatory commissions in the PJM Region and on all persons listed on the official service lists compiled by the Secretary for these proceedings.

Comment Date: May 21, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1110 Filed 05-12-04; 8:45 am]

BILLING CODE 6717-01-P